DEPARTMENT OF AGRICULTURE

Submission for OMB Review; Comment Request

September 21, 2020.

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by October 26, 2020 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Foreign Agricultural Service

Title: Dairy Tariff-Rate Import Quota Licensing Program.

OMB Control Number: 0551-0001.

Summary of Collection: The Dairy Tariff-Rate Import Quota regulation (the Regulation) (7 CFR part 6.20-6.37) which governs the administration of the import licensing system applicable to most dairy products subject to tariff-rate quotas (TRQs). The importation of most cheese made from cow's milk and certain non-cheese dairy articles (butter, dried milks, and butter substitutes) are subject to TRQs and must be accompanied by an import license issued by the Department to enter at the lower tariff. Importers without licenses may enter these dairy articles but are required to pay the higher tariff. The Foreign Agricultural Service (FAS) will collect information using several forms.

Need and Use of the Information: FAS will use the collected information in the administration of the tariff-rate import quota licensing system for certain dairy products and the issuance of licenses in accordance with the Regulation. If the information were collected less frequently, FSA would be unable to issue licenses on an annual basis in compliance with the Import Regulation.

Description of Respondents: Business or other-for-profit.

Number of Respondents: 700.

Frequency of Responses: Record keeping, Reporting: Annually.

Total Burden Hours: 479.

Ruth Brown,
Departmental Information Collection Clearance Officer.

[FR Doc. 2020-21149 Filed 9-24-20; 8:45 am]

BILLING CODE 3410-10-P